DEPARTMENT OF ENERGY

Federal Energy Regulatory Commission

[Docket Nos. CP99-580-003 and CP99-582-004]

Southern LNG Inc.; Notice of Compliance Filing

October 29, 2001.

Take notice that on October 24, 2001, Southern LNG Inc. (Southern LNG) tendered for filing its FERC Gas Tariff, Original Volume No. 1, to become effective December 1, 2001, the proposed in-service date of its liquefied natural gas receiving terminal near Savannah, Georgia. Copies of this filing are on file with the Commission and are available for public inspection. This filing may also be viewed on the web at http://www.ferc.gov using the “RIMS” link, select “Docket#” and follow the instructions (call 202-208-2222 for assistance).

Southern LNG states that the purpose of this filing is to place its open-access tariff into effect in compliance with section 154.207 of the Commission's regulations, conform the tariff to the current Part 284 regulations, and update the initial rates for service consistent with orders issued in Docket Nos. CP99-579, CP99-580, and CP99-582 on December 22, 1999 (89 FERC ¶ 61,314); March 16, 2000 (90 FERC ¶ 61,257); February 23, 2001 (94 FERC ¶ 61,188); and July 16, 2001 (96 FERC ¶ 61,083).

Any person desiring to be heard or to make any protest with reference to said application should on or before November 8, 2001, file with the Federal Energy Regulatory Commission, 888 First Street, NE., Washington, DC 20426, a motion to intervene or a protest in accordance with the requirements of the Commission's rules of practice and procedure (18 CFR 385.214 or 385.211) and the regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's rules. Comments, protests, and interventions may be filed electronically via the Internet in lieu of paper. See 18 CFR 385.2001(a)(1)(iii) and the instructions on the Commission's website under “e-Filing” link.

David P. Boergers,
Secretary.

[FR Doc. 01-27669 Filed 11-2-01; 8:45 am]

BILLING CODE 6717-01-P